Proclamation 8935 of February 28, 2013

Women's History Month, 2013

By the President of the United States of America

A Proclamation

For more than two centuries, our Nation has grown under the simple creed that each of us is created equal. It is a notion that makes America unlike any other place on earth—a country where no matter where you come from or what you look like, you can go as far as your talents will take you.

Women's History Month is a time to remember those who fought to make that freedom as real for our daughters as for our sons. Written out of the promise of the franchise, they were women who reached up to close the gap between what America was and what it could be. They were driven by a faith that our Union could extend true equality to every citizen willing to claim it. Year after year, visionary women met and marched and mobilized to prove what should have been self-evident. They grew a meeting at Seneca Falls into a movement that touched every community and took on our highest institutions. And after decades of slow, steady, extraordinary progress, women have written equal opportunity into the law again and again, giving generations of girls a future worthy of their potential.

That legacy of change is all around us. Women are nearly half of our Nation's workforce and more than half of our college graduates. But even now, too many women feel the weight of discrimination on their shoulders. They face a pay gap at work, or higher premiums for health insurance, or inadequate options for family leave. These issues affect all of us, and failing to address them holds our country back.

That is why my Administration has made the needs of women and girls a priority since day one—from signing the Lilly Ledbetter Fair Pay Act to helping ensure women are represented among tomorrow's top scientists and engineers. It is why we secured stronger protections and more preventive services for women under the Affordable Care Act. It is why we have fought for greater workplace flexibility, access to capital and training for women-owned businesses, and equal pay for equal work. And it is why we have taken action to reduce violence against women at home and abroad, and to empower women around the world with full political and economic opportunity.

Meeting those challenges will not be easy. But our history shows that when we couple grit and ingenuity with our basic beliefs, there is no barrier we cannot overcome. We can stay true to our founding creed that in America, all things should be possible for all people. That spirit is what called our mothers and grandmothers to fight for a world where no wall or ceiling could keep their daughters from their dreams. And today, as we take on the defining issues of our time, America looks to the next generation of movers and marchers to lead the way.

NOW, THEREFORE, I, BARACK OBAMA, President of the United States of America, by virtue of the authority vested in me by the Constitution and the laws of the United States, do hereby proclaim March 2013 as Women's History Month. I call upon all Americans to observe this month and to celebrate International Women's Day on March 8, 2013, with appropriate programs, ceremonies, and activities. I also invite all Americans to visit www.WomensHistoryMonth.gov to learn more about the generations of women who have shaped our history.

IN WITNESS WHEREOF, I have hereunto set my hand this twenty-eighth day of February, in the year of our Lord two thousand thirteen, and of the Independence of the United States of America the two hundred and thirty-seventh.

[FR Doc. 2013-05296

Filed 3-5-13; 8:45 am]

Billing code 3295-F3